ENVIRONMENTAL PROTECTION AGENCY

40 CFR Part 52

[PA-4136a; FRL-7035-8]

Approval and Promulgation of Air Quality Implementation Plans; Pennsylvania; VOC RACT Determinations for Nine Sources in the Pittsburgh-Beaver Valley Area

AGENCY: Environmental Protection Agency (EPA).

ACTION: Direct final rule.

SUMMARY: EPA is taking direct final action to approve revisions to the Commonwealth of Pennsylvania's State Implementation Plan (SIP). The revisions were submitted by the Pennsylvania Department of Environmental Protection (PADEP) to establish and require reasonably available control technology (RACT) for nine major sources of volatile organic compounds (VOC). These sources are located in the Pittsburgh-Beaver Valley ozone nonattainment area (the Pittsburgh area). EPA is approving these revisions to establish RACT requirements in the SIP in accordance with the Clean Air Act (CAA).

DATES: This rule is effective on October 9, 2001 without further notice, unless EPA receives adverse written comment by September 24, 2001. If EPA receives such comments, it will publish a timely withdrawal of the direct final rule in the Federal Register and inform the public that the rule will not take effect.

ADDRESSES: Written comments should be mailed to David L. Arnold, Chief, Air Quality Planning & Information Services Branch, Air Protection Division, Mailcode 3AP21, U.S. Environmental Protection Agency, Region III, 1650 Arch Street, Philadelphia, Pennsylvania 19103. Copies of the documents relevant to this action are available for public inspection during normal business hours at the Air Protection Division, U.S. Environmental Protection Agency, Region III, 1650 Arch Street, Philadelphia, Pennsylvania 19103; the Air and Radiation Docket and Information Center, U.S. Environmental Protection Agency, 401 M Street, SW, Washington, DC 20460; Allegheny County Health Department, Bureau of Environmental Quality, Division of Air Quality, 301 39th Street, Pittsburgh, Pennsylvania 15201 and the Pennsylvania Department of Environmental Protection, Bureau of Air Quality Control, P.O. Box 8468, 400 Market Street, Harrisburg, Pennsylvania 17105.

FOR FURTHER INFORMATION CONTACT: Rose Quinto at (215) 814-2182, the EPA Region III address above or by e-mail at quinto.rose@epa.gov. Please note that while questions may be posed via telephone and e-mail, formal comments must be submitted, in writing, as indicated in the ADDRESSES section of this document.

SUPPLEMENTARY INFORMATION:

I. Background

Pursuant to sections 182(b)(2) and 182(f) of the Clean Air Act (CAA), the Commonwealth of Pennsylvania (the Commonwealth or Pennsylvania) is required to establish and implement RACT for all major VOC and NOX sources. The major source size is determined by its location, the classification of that area and whether it is located in the ozone transport region (OTR). Under section 184 of the CAA, RACT as specified in sections 182(b)(2) and 182(f)) applies throughout the OTR. The entire Commonwealth is located within the OTR. Therefore, RACT is applicable statewide in Pennsylvania.

State implementation plan revisions imposing reasonably available control technology (RACT) for three classes of VOC sources are required under section 182(b)(2). The categories are:

(1) All sources covered by a Control Technique Guideline (CTG) document issued between November 15, 1990 and the date of attainment;

(2) all sources covered by a CTG issued prior to November 15, 1990; and

(3) all major non-CTG sources. The regulations imposing RACT for these non-CTG major sources were to be submitted to EPA as SIP revisions by November 15, 1992 and compliance required by May of 1995.

The Pennsylvania SIP already includes approved RACT regulations for all sources and source categories covered by the CTGs. On February 4, 1994, PADEP submitted a revision to its SIP to require major sources of NOX and additional major sources of VOC emissions (not covered by a CTG) to implement RACT. The February 4, 1994 submittal was amended on May 3, 1994 to correct and clarify certain presumptive NOX RACT requirements. In the Pittsburgh area, a major source of VOC is defined as one having the potential to emit 50 tons per year (tpy) or more, and a major source of NOX is defined as one having the potential to emit 100 tpy or more. Pennsylvania's RACT regulations require sources, in the Pittsburgh area, that have the potential to emit 50 tpy or more of VOC and sources which have the potential to emit 100 tpy or more of NOX comply with RACT by May 31, 1995. The regulations contain technology-based or operational “presumptive RACT emission limitations” for certain major NOX sources. For other major NOX sources, and all major non-CTG VOC sources (not otherwise already subject to RACT under the Pennsylvania SIP), the regulations contain a “generic” RACT provision. A generic RACT regulation is one that does not, itself, specifically define RACT for a source or source categories but instead allows for case-by-case RACT determinations. The generic provisions of Pennsylvania's regulations allow for PADEP to make case-by case RACT determinations that are then to be submitted to EPA as revisions to the Pennsylvania SIP.

On March 23, 1998 EPA granted conditional limited approval to the Commonwealth's generic VOC and NOX RACT regulations (63 FR 13789). In that action, EPA stated that the conditions of its approval would be satisfied once the Commonwealth either (1) certifies that it has submitted case-by-case RACT proposals for all sources subject to the RACT requirements currently known to PADEP; or (2) demonstrate that the emissions from any remaining subject sources represent a de minimis level of emissions as defined in the March 23, 1998 rulemaking. On April 22, 1999, PADEP made the required submittal to EPA certifying that it had met the terms and conditions imposed by EPA in its March 23, 1998 conditional limited approval of its VOC and NOX RACT regulations by submitting 485 case-by-case VOC/ NOX RACT determinations as SIP revisions and making the demonstration described as condition 2, above. EPA determined that Pennsylvania's April 22, 1999 submittal satisfied the conditions imposed in its conditional limited approval published on March 23, 1998. On May 3, 2001 (66 FR 22123), EPA published a rulemaking action removing the conditional status of its approval of the Commonwealth's generic VOC and NOX RACT regulations on a statewide basis. The regulation currently retains its limited approval status. Once EPA has approved the case-by-case RACT determinations submitted by PADEP to satisfy the conditional approval for subject sources located in Allegheny, Armstrong, Beaver, Butler, Fayette, Washington, and Westmoreland Counties; the limited approval of Pennsylvania's generic VOC and NOX RACT regulations shall convert to a full approval for the Pittsburgh area.

It must be noted that the Commonwealth has adopted and is implementing additional “post RACT requirements” to reduce seasonal NOX emissions in the form of a NOX cap and trade regulation, 25 Pa Code Chapters 121 and 123, based upon a model rule developed by the States in the OTR. That rule's compliance date is May 1999. That regulation was approved as SIP revision on June 6, 2000 (65 FR 35842). Pennsylvania has also adopted regulations to satisfy Phase I of the NOX SIP call and submitted those regulations to EPA for SIP approval. Pennsylvania's SIP revision to address the requirements of the NOX SIP Call Phase I consists of the adoption of Chapter 145—Interstate Pollution Transport Reduction and amendments to Chapter 123—Standards for Contaminants. On May 29, 2001 (66 FR 29064), EPA proposed approval of the Commonwealth's NOX SIP call rule SIP submittal. EPA expects to publish the final rulemaking in the Federal Register in the near future. Federal approval of a case-by-case RACT determination for a major source of NOX in no way relieves that source from any applicable requirements found in 25 PA Code Chapters 121, 123 and 145.

On March 21, 1996, October 18, 1996, January 21, 1997, July 1, 1997, March 23, 2001, and April 19, 2001, PADEP submitted revisions to the Pennsylvania SIP which establish and impose RACT for several major sources of VOC. This rulemaking pertains to nine of those sources. The remaining sources are or have been the subject of separate rulemakings. The Commonwealth's submittals consist of operating permits (OPs) issued by PADEP and plan approval and agreement upon consent orders (Consent Orders or COs) issued by the Allegheny County Health Department (ACHD). These nine sources are located in the Pittsburgh area.

II. Summary of the SIP Revisions

The table below identifies the sources and individual OPs and COs which are the subject of this rulemaking. A summary of the VOC RACT determinations for each source follows the table.

Pennsylvania—VOC RACT Determinations for Individual Sources
Source | County | Consent order (CO#), operating permit (OP#) | Source type | “Major source” pollutant
Armstrong World Industries, Inc.—Beaver Falls | Beaver | OP 04-000-108 | Ceiling tile manufacturing | VOC
Bacharach, Inc | Allegheny | CO 263 | Gas detection equipment manufacturing | VOC
Bakerstown Container Corporation | Allegheny | CO 221 | Steel drum reconditioning | VOC
Chestnut Ridge Foam, Inc | Westmoreland | OP 65-000-181 | Foam product manufacturing | VOC
Flexsys America L. P., Monongahela Plant | Washington | OP 63-000-015 | Crystex manufacturing | VOC
Haskell of Pittsburgh | Allegheny | CO 224 | Steel office furniture manufacturing | VOC
Three Rivers Aluminum Company | Butler | OP 10-267 | Aluminum window manufacturing | VOC
Tuscarora Plastics, Inc | Beaver | OP 04-000-497 | Expandable polystyrene plant | VOC
Witco Corporation | Allegheny | CO 210 | Lubricant manufacturing | VOC

A. Armstrong World Industries

Armstrong World Industries (AWI) manufactures commercial grade ceiling tile. This facility is located in Beaver Falls, Beaver County, Pennsylvania. AWI is a major VOC emitting facility. In this instance, RACT has been established and imposed by PADEP in an OP. On January 21, 1997, PADEP submitted this OP 04-000-108 to EPA as a SIP revision. OP 04-000-108 requires AWI and any associated air cleaning devices to be operated and maintained in a manner consistent with good operating and management practices. Under OP 04-000108, AWI must comply with the facility emission limit of 164 tons of VOC per year. AWI must not exceed a ceiling board production rate of 96 million square feet per year. AWI must maintain coating usage records. The production rate must be monitored and recorded to demonstrate compliance with the annual facility emission limit of 164 tons of VOC per year. Monitoring data will be recorded in log sheets, computer media, paper printouts, strip charts, or a combination of these for each production line. Summary reports of all required monitoring must be submitted by AWI to PADEP every 12 months. Compliance with annual limits must be met on a rolling monthly basis over very consecutive 12 month period.

B. Bacharach Inc.

Bacharach Inc. manufactures gas detection equipment and temperature and measurement devices. This facility is located in O'Hara Township, Allegheny County, Pennsylvania. Bacharach Inc. is a major VOC emitting facility. In this instance, RACT has been established and imposed by ACHD in CO 263. On April 19, 2001, PADEP submitted CO 263 to EPA on behalf of the ACHD as a SIP revision. Bacharach Inc. consists of two processes: (a) Vapor degreaser, and (2) spray paint booth and oven. Under CO 263, Bacharach Inc. is not allowed to exceed 50 tons per year of total combined annual facility wide emissions of VOCs. Also, under CO 263, Bacharach Inc. must maintain records to demonstrate compliance with this CO and Article XXI, section 2105.06. Recordkeeping requirements must include material purchase and consumption records. All records shall be retained for at least two years.

C. Bakerstown Container Corporation

Bakerstown Container Corporation (BCC) is a steel drum manufacturing facility located in Bakerstown, Allegheny County, Pennsylvania. BCC is a major VOC emitting facility. In this instance, RACT has been established and imposed by ACHD in CO 221. On July 1, 1997, PADEP submitted CO 221 to EPA on behalf of the ACHD as a SIP revision. BCC reconditions 55 gallon steel drums and consists of a drum drying furnace, drum interior and drum exterior coating processes, a curing oven and one boiler. Under CO 221, at no time shall BCC allow the drum burning furnace to operate unless the furnace and afterburner are properly maintained and operated within the following parameters: (1) Minimum afterburner operating temperature of 1600 degrees Fahrenheit, and (2) minimum afterburner residence time of 0.5 seconds. Also under CO 221, at no time shall BCC store containers of VOCs at the facility unless such containers are covered at all times, with the exceptions of the following: (a) the mixing of paint immediately prior to paint application, and (b) the transfer of material to different containers. CO 221 requires BCC at all times and as expeditiously as possible, to cleanup any liquid or dry material spilled at the facility. CO 221 also requires BCC to maintain records to demonstrate compliance with this CO and Article XXI, section 2105.06. Recordkeeping requirements must include the quantity, composition, and density of all coatings and solvents, including solvents used for cleanup and purging, used in each process. All records shall be retained for at least two years.

D. Chestnut Ridge Foam, Inc.

Chestnut Ridge Foam, Inc. (Chestnut) operates a facility for the manufacture of flame-resistant and specialty foam products located in East Huntington Township, Westmoreland County, Pennsylvania. Chestnut is a major VOC emitting facility. In this instance, RACT has been established and imposed by PADEP in an OP. On March 21, 1996, PADEP submitted OP 65-000-181 to EPA as a SIP revision. OP 654-000-181 requires that all processes and associated air cleaning devices be operated and maintained in a manner consistent with good operating and management practices. OP 654-000-181 is for the operation of the various VOC emitting sources: Dip Line, Lamination line, Ross Line, Glue Tables, Urethane Line, Boiler #1, Boiler #2, and Box Dryers. OP 654-000-181 requires Chestnut not to exceed 165.57 tons per year of VOC. All records shall be retained for at least two years. Recordkeeping includes monthly records on the quantity of VOC containing compounds used at the facility. Annual limits are to be met on a rolling monthly basis over every consecutive 12 month period.

E. Flexsys America L.P.

Flexsys America L.P. (Flexsys), Monongahela Plant, manufactures an insoluble sulfur additive called Crystex which is used in the making of rubber tires. The facility is located in Monongahela, Washington County, Pennsylvania. Flexsys is a major VOC emitting facility. In this instance, RACT has been established and imposed by PADEP in an OP. On April 19, 2001, PADEP submitted OP 63-000-015 to EPA as a SIP revision. OP 63-000-015 requires Flexsys' processes and any associated air cleaning devices to be operated and maintained in a manner consistent with good operating and management practices. Flexsys must maintain records in accordance with 25 PA Code section 129.95. Under OP 63-000-015, VOC emissions from this facility shall not exceed 170 tons per year to met on a rolling monthly basis over every consecutive 12 month period. In addition, VOC emissions from the Crystex process, shall not exceed 3.2 pounds per hour. The method of compliance with the VOC emission limitations above shall be the submittal of a yearly report to PADEP summarizing the actual and potential VOC emissions. This report shall describe in detail the methods used to calculate the emissions.

F. Haskell of Pittsburgh, Inc.

Haskell of Pittsburgh, Inc. (Haskell) is a steel office furniture manufacturing facility located in Verona, Allegheny County, Pennsylvania. Haskell is a major VOC emitting facility. In this instance, RACT has been established and imposed by ACHD in CO 224. On July 1, 1997, PADEP submitted CO 224 to EPA on behalf of the ACHD as a SIP revision. Haskell has six separate manufacturing processes along with miscellaneous facility maintenance operations. CO 224 requires Haskell the following:

(1) For the paint process: Utilize high solid paint coatings which have a VOC content not greater than 3.0 pounds per gallon, less water and exempt solvents, as applied; and utilize electrostatic spray equipment or equipment equal to or better in terms of VOC emission control.

(2) For the paint mixing room process: Utilize high solid paint coatings which have a VOC content not greater than 0.3 pounds per gallon, less water and exempt solvents, as applied; cover containers containing VOCs at all times, except during the transfer of material to different containers; and clean, as expeditiously as possible, any liquid or dry material spilled containing VOCs.

(3) For the paint storage rooms: Cover containers containing VOCs at all times, except during the transfer of material to different containers; and clean, as expeditiously as possible, any liquid or dry material spilled containing VOCs.

(4) For the burn-off oven: For the purpose of paint removal, maintain and operate its incinerator so that the minimum operating temperature of 1400 degrees Fahrenheit and minimum residence time of 0.5 seconds is maintained.

(5) For the xylene reclaim process: Utilize the still as a VOC control device, condensing the VOC containing vapors as a means of capturing VOCs.

(6) For the glue booth process operations: Utilize only glues which have a VOC content of not greater than 3.0 pounds per gallon, less water and exempt solvents, as applied.

(7) Operations with respect to the use of xylol in cleaning and maintenance: Maintain covers on all xylol containers except when in use, and clean any spilled xylol as expeditiously as possible.

CO 224 requires the VOC content of the booth peel used at the facility not to exceed 7.0 pounds per gallon, less water and exempt solvents, as applied. CO 224 requires Haskell to maintain records to demonstrate compliance with this CO and Article XXI, section 2105.06. Recordkeeping requirements must include the quantity, composition and density of all coatings and solvents in the paint process, and the glue both process, including solvents used for cleanup and purging in such processes. All records shall be retained for at least two years.

G. Three Rivers Aluminum Company

Three Rivers Aluminum Company (TRACO) manufactures commercial thermally improved operating and fixed windows, insulated glass, and custom and finished aluminum extrusions. The facility is located in Cranberry Township, Butler County, Pennsylvania. TRACO is a major VOC emitting facility. In this instance, RACT has been established and imposed by PADEP in an OP. On March 23, 2001, PADEP submitted OP 10-267 to EPA as a SIP revision. OP 10-267 requires TRACO to continue to investigate the use of substitute solvents; continue to improve procedures to reduce solvent usage and evaporative loss for assembly operations and continue to implement good work practices and mange solvent use and rags to minimize evaporation. All sources shall be operated and maintained in accordance with good air pollution control practices. OP 10-267 also requires TRACO to keep a log of all solvents used in the assembly operations. The log requirements are: (a) To be maintained on a monthly basis specifying monthly VOC emissions from the assembly operations; and (b) to be maintained for a period of at least 5 years.

H. Tuscarora Plastics, Inc.

Tuscarora Plastics, Inc. (Tuscarora) is an expandable polystyrene plant located in New Brighton, Beaver County, Pennsylvania. Tuscarora manufactures various foam plastic products, including structural components, custom molded parts, foam plastic packaging and material handling constituents, Tuscarora is a major VOC emitting facility. In this instance, RACT has been established and imposed by PADEP in an OP. On October 18, 1996, PADEP submitted OP 04-000-497 to EPA as a SIP revision. OP 04-000-497 requires Tuscarora's processes and any associated air cleaning devices to be operated and maintained in a manner consistent with good operating and management practices. OP 04-000-497 requires the average VOC content of the raw material by weight shall not exceed 4.3 percent for the expandable polystyrene (EPS) beads and 8 percent for small quantities of polystyrene/polyethylene copolymer (ARCEL) beads. VOC emissions shall be limited to 4.17 pounds per 100 pounds of raw material processed for EPS, and 7.2 pounds per 100 pounds of raw material processes for ARCEL. The annual VOC emission rate shall not exceed 63 tons facility wide to met on a rolling monthly basis over every consecutive 12 month period. Records shall be maintained verifying emission rates and shall be retained for at least two years.

I. Witco Corporation

Witco Corporation (Witco) is a grease and other lubricants manufacturing facility located in Gibsonia, Allegheny County, Pennsylvania. Witco is a major VOC emitting facility. In this instance, RACT has been established and imposed by ACHD in CO 210. On July 1, 1997, PADEP submitted CO 210 to EPA on behalf of the ACHD as a SIP revision. CO 210 requires Witco not to conduct any process operations which generate emissions of VOCs at any time, unless all VOC emissions are processed by the facility's thermal oxidizer. The thermal oxidizer shall be properly maintained and operated with a minimum VOC destruction efficiency of 98.9 percent, a minimum retention of 0.5 seconds and a minimum operating temperature of 1500 degrees Fahrenheit at all times during process operations. The thermal oxidizer destruction efficiency shall be determined annually according to EPA approved test methods and section 2108.02.c of Article XXI. CO 210 requires Witco to maintain records to demonstrate compliance with this CO and Article XXI, section 2105.06. All records shall be retained for at least two years.

III. EPA's Evaluation of the SIP Revisions

EPA is approving these RACT SIP submittals because ACHD and PADEP established and imposed these RACT requirements in accordance with the criteria set forth in the SIP-approved RACT regulations applicable to these sources. The ACHD and PADEP has also imposed recordkeeping, monitoring, and testing requirements on these sources sufficient to determine compliance with the applicable RACT determinations.

IV. Final Action

EPA is approving the revisions to the Pennsylvania SIP submitted by PADEP to establish and require VOC RACT for nine major sources located in the Pittsburgh area. EPA is publishing this rule without prior proposal because the Agency views this as a noncontroversial amendment and anticipates no adverse comment. However, in the “Proposed Rules” section of today's Federal Register, EPA is publishing a separate document that will serve as the proposal to approve the SIP revision if adverse comments are filed. This rule will be effective on October 9, 2001 without further notice unless EPA receives adverse comment by September 24, 2001. If EPA receives adverse comment, EPA will publish a timely withdrawal in the Federal Register informing the public that the rule will not take effect. EPA will address all public comments in a subsequent final rule based on the proposed rule. EPA will not institute a second comment period on this action. Any parties interested in commenting must do so at this time. Please note that if adverse comment is received for a specific source or subset of sources covered by an amendment, section or paragraph of this rule, only that amendment, section, or paragraph for that source or subset of sources will be withdrawn.

V. Administrative Requirements

A. General Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use.” See 66 FR 28355, May 22, 2001. This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4). This rule also does not have a substantial direct effect on one or more Indian tribes, on the relationship between the Federal Government and Indian tribes, or on the distribution of power and responsibilities between the Federal Government and Indian tribes, as specified by Executive Order 13175 (65 FR 67249, November 9, 2000), nor will it have substantial direct effects on the States, on the relationship between the national government and the States, or on the distribution of power and responsibilities among the various levels of government, as specified in Executive Order 13132 (64 FR 43255, August 10, 1999), because it merely approves a state rule implementing a Federal standard, and does not alter the relationship or the distribution of power and responsibilities established in the Clean Air Act. This rule also is not subject to Executive Order 13045 (62 FR 19885, April 23, 1997), because it is not economically significant. In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings' issued under the executive order. This rule does not impose an information collection burden under the provisions of the Paperwork Reduction Act of 1995 (44 U.S.C. 3501 et seq.).

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. Section 804 exempts from section 801 the following types of rules: (1) Rules of particular applicability; (2) rules relating to agency management or personnel; and (3) rules of agency organization, procedure, or practice that do not substantially affect the rights or obligations of non-agency parties. 5 U.S.C. 804(3). EPA is not required to submit a rule report regarding today's action under section 801 because this is a rule of particular applicability establishing source-specific requirements for nine named sources.

C. Petitions for Judicial Review

Under section 307(b)(1) of the Clean Air Act, petitions for judicial review of this action must be filed in the United States Court of Appeals for the appropriate circuit by October 9, 2001. Filing a petition for reconsideration by the Administrator of this final rule does not affect the finality of this rule for the purposes of judicial review nor does it extend the time within which a petition for judicial review may be filed, and shall not postpone the effectiveness of such rule or action. This action approving the Commonwealth's source-specific RACT requirements to control VOC from nine individual sources in the Pittsburgh area Pennsylvania may not be challenged later in proceedings to enforce its requirements. (See section 307(b)(2).)

List of Subjects in 40 CFR Part 52

Environmental protection, Air pollution control, Hydrocarbons, Incorporation by reference, Ozone, Reporting and recordkeeping requirements.

Dated: August 9, 2001.
Thomas C. Voltaggio,
Deputy Regional Administrator, Region III.

40 CFR part 52 is amended as follows:

PART 52—[AMENDED]

1. The authority citation for Part 52 continues to read as follows:

Authority: 42 U.S.C. 7401 et seq.

Subpart NN—Pennsylvania

2. Section 52.2020 is amended by adding paragraph (c)(170) to read as follows:

§ 52.2020 Identification of plan.

* * * * *

(c) * * *

(170) Revisions pertaining to VOC RACT for major sources, located in the Pittsburgh-Beaver Valley ozone nonattainment area, submitted by the Pennsylvania Department of Environmental Protection on March 21, 1996, October 18, 1996, January 21, 1997, July 1, 1997, March 23, 2001, and April 19, 2001.

(i) Incorporation by reference.

(A) Letters dated March 21, 1996, October 18, 1996, January 21, 1997, July 1, 1997, March 23, 2001, and April 19, 2001, submitted by the Pennsylvania Department of Environmental Protection transmitting source-specific VOC RACT determinations.

(B) Operating Permits (OPs) and Plan Approval and Agreement Upon Consent Orders (COs) for the following sources:

(1) Armstrong World Industries, Beaver Falls Plant, OP 04-000-108, effective May 29, 1996.

(2) Bacharach, Inc., CO 263, effective October 10, 1997, except for condition 2.5.

(3) Bakerstown Container Corporation, CO 221, effective May 14, 1996, except for condition 2.5.

(4) Chestnut Ridge Foam, Inc., OP 65-000-181, effective December 29, 1995.

(5) Flexsys America L.P., Monongahela Plant, OP 63-000-015, effective March 23, 2001, except for the Permit Term.

(6) Haskell of Pittsburgh, Inc., CO 224, effective December 19, 1996, except for condition 2.4.

(7) Three Rivers Aluminum Company, OP 10-267, effective March 1, 2001.

(8) Tuscarora Plastics, Inc., OP 04-000-497, effective April 3, 1996.

(9) Witco Corporation, CO 210, effective May 14, 1996.

(ii) Additional Materials—Other materials submitted by the Commonwealth of Pennsylvania in support of and pertaining to the RACT determinations submitted for the sources listed in (i)(B), above.

[FR Doc. 01-21423 Filed 8-23-01; 8:45 am]

BILLING CODE 6560-50-P